OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Ms. Delores Everett, Center for Leadership and Executive Resources Policy, Division for Strategic Human Resources Policy, 202-606-1050.

SUPPLEMENTARY INFORMATION: Appearing in the listing below are the individual authorities established under Schedule C between February 1, 2004 and February 29, 2004. Future notices will be published on the fourth Tuesday of each month, or as soon as possible thereafter. A consolidated listing of all authorities as of June 30 is published each year.

Schedule A

No Schedule A appointments for February 2004.

Schedule B

No Schedule B appointments for February 2004.

Schedule C

The following Schedule C appointments were approved for February 2004:

Section 213.3303 Executive Office of the President

Office of National Drug Control Policy

QQGS00016 Staff Assistant to the Associate Director, Legislative Affairs. Effective February 05, 2004

QQGS00026 Staff Assistant to the Press Secretary (Assistant Director). Effective February 06, 2004

Office of Science and Technology Policy

TSGS60021 Confidential Assistant to the Chief of Staff. Effective February 27, 2004

Section 213.3304 Department of State

DSGS60736 Staff Assistant to the Assistant Secretary. Effective February 02, 2004

DSGS60737 Special Assistant to the Legal Adviser. Effective February 02, 2004

DSGS60746 Legislative Management Officer to the Assistant Secretary for Legislative and Intergovernmental Affairs. Effective February 02, 2004

DSGS60740 Staff Assistant to the Under Secretary for Public Diplomacy and Public Affairs. Effective February 06, 2004

DSGS60744 Special Assistant to the Under Secretary for Arms Control and Security Affairs. Effective February 11, 2004

DSGS60745 Special Assistant to the Assistant Secretary. Effective February 11, 2004

DSGS60725 Press Officer to the Assistant Secretary for Public Affairs. Effective February 12, 2004

DSGS60748 Attorney-Advisor to the Assistant Secretary for Administration. Effective February 13, 2004

DSGS60742 Public Affairs Specialist to the Assistant Secretary for Public Affairs. Effective February 18, 2004

DSGS60747 Staff Assistant to the Under Secretary for Public Diplomacy and Public Affairs. Effective February 19, 2004

DSGS60751 Special Assistant to the Under Secretary for Public Diplomacy and Public Affairs. Effective February 20, 2004

DSGS60752 Special Assistant to the Under Secretary for Arms Control and Security Affairs. Effective February 20, 2004

DSGS60749 Special Assistant to the Deputy Assistant Secretary. Effective February 26, 2004

Section 213.3305 Department of the Treasury

DYGS00440 Public Affairs Specialist to the Director, Public Affairs. Effective February 04, 2004

DYGS60421 Special Assistant to the Assistant Secretary (Deputy Under Secretary) Legislative Affairs. Effective February 20, 2004

DYGS60395 Deputy Executive Secretary to the Executive Secretary. Effective February 27, 2004

Section 213.3306 Department of Defense

DDGS16790 Defense Fellow to the Special Assistant to the Secretary of Defense for White House Liaison. Effective February 04, 2004

DDGS16791 Public Affairs Specialist to the Public Affairs Specialist. Effective February 04, 2004

DDGS16784 Defense Fellow to the Special Assistant to the Secretary of Defense for White House Liaison. Effective February 19, 2004

Section 213.3307 Department of the Army

DWGS60076 Special Assistant to the Assistant Secretary of Army (Civil Works). Effective February 24, 2004

Section 213.3310 Department of Justice

DJGS00207 Special Assistant to the Director, Office on Violence against Women to the Director of the Violence against Women Office. Effective February 02, 2004

Section 213.3311 Department of Homeland Security

DMGS00189 Assistant Director for Legislative Affairs for Emergency Preparedness and Response to the Chief of Staff. Effective February 02, 2004

DMOT00190 Director, Stakeholder and Industry Affairs to the Administrator. Effective February 03, 2004

DMGS00191 Director of Scheduling and Advance to the Deputy Chief of Staff for Operations. Effective February 05, 2004

DMGS00193 Special Assistant to the Under Secretary for Border and Transportation Security. Effective February 05, 2004

DMGS00195 Policy Analyst to the Director, Office for Domestic Preparedness. Effective February 05, 2004

DMGS00192 Special Assistant to the Chief of Staff. Effective February 06, 2004

DMGS00172 Counsel to the General Counsel. Effective February 11, 2004

DMGS00194 Director of Communications for Immigration and Customs Enforcement to the Chief of Staff. Effective February 13, 2004

DMGS00171 Staff Assistant to the Assistant Secretary for Infrastructure Protection. Effective February 19, 2004

DMGS00174 Special Assistant for Special Projects to the Chief of Staff. Effective February 23, 2004

DMGS00200 Deputy White House Liaison to the White House Liaison. Effective February 23, 2004

DMGS00201 Business Liaison to the Special Assistant. Effective February 23, 2004

DMGS00198 Special Assistant to the Assistant Secretary for Plans, Programs and Budgets. Effective February 24, 2004

Section 213.3312 Department of the Interior

DIGS01590 Special Assistant—Advance to the Director of Scheduling and Advance. Effective February 23, 2004

Section 213.3313 Department of Agriculture

DAGS00602 Confidential Assistant to the Under Secretary for Rural Development. Effective February 02, 2004

DAGS00604 Confidential Assistant to the Director, Office of Business and Program Integration. Effective February 03, 2004

DAGS00605 Confidential Assistant to the Administrator for Risk Management. Effective February 11, 2004

DAGS00606 Confidential Assistant to the Assistant Secretary for Congressional Relations. Effective February 11, 2004

DAGS00611 Director to the Administrator, Food and Nutrition Service. Effective February 18, 2004

DAGS00609 Special Assistant to the Associate Assistant Secretary for Civil Rights. Effective February 19, 2004

DAGS00607 Confidential Assistant to the Assistant Secretary for Congressional Relations. Effective February 23, 2004

DAGS00603 Staff Assistant to the White House Liaison. Effective February 27, 2004

Section 213.3314 Department of Commerce

DCGS00573 Special Assistant to the Deputy Assistant Secretary for Export Promotion Services. Effective February 04, 2004

DCGS00657 Confidential Assistant to the Assistant Secretary for Export Enforcement. Effective February 05, 2004

DCGS00608 Confidential Assistant to the Chief of Staff to the Under Secretary. Effective February 11, 2004

DCGS00660 Public Affairs Director to the Assistant Secretary for Trade Development. Effective February 12, 2004

DCGS00486 Deputy Director of Speechwriting to the Director for Speechwriting. Effective February 27, 2004

DCGS00488 Special Assistant to the Director, Executive Secretariat. Effective 26, 2004

Section 213.3315 Department of Labor

DLGS60253 Special Assistant to the Deputy Secretary of Labor. Effective February 06, 2004

DLGS60235 Legislative Assistant to the Assistant Secretary for Congressional and Intergovernmental Affairs. Effective February 26, 2004

Section 213.3316 Department of Health and Human Services

DHGS60031 Speechwriter to the Assistant Secretary for Public Affairs. Effective February 11, 2004

Section 213.3317 Department of Education

DBGS00305 Special Assistant to the Director, Office of Public Affairs (Communications Director). Effective February 02, 2004

DBGS00304 Deputy Chief of Staff for Strategy/Policy to the Chief of Staff. Effective February 05, 2004

DBGS00306 Deputy Assistant Secretary to the Assistant Secretary for Legislation and Congressional Affairs. Effective February 06, 2004

DBGS00308 Special Assistant to the Deputy Assistant Secretary for Intergovernmental, Constituent Relations and Corporate Liaison. Effective February 12, 2004

DBGS00307 Special Assistant to the Director, Faith-Based and Community Initiatives Center. Effective February 23, 2004

DBGS00312 Confidential Assistant to the Assistant Secretary for Postsecondary Education. Effective February 27, 2004

Section 213.3318 Environmental Protection Agency

EPGS03612 Policy Advisor to the Administrator. Effective February 11, 2004

EPGS03613 Senior Advance Coordinator to the Deputy Associate Administrator for the Office of Public Affairs. Effective February 27, 2004

Section 213.3325 United States Tax Court

JCGS60072 Trial Clerk to the Chief Judge. Effective February 02, 2004

Section 213.3327 Department of Veterans Affairs

DVGS60004 Associate Dean, Veterans Administration Learning University/Special Assistant to the Secretary to the Dean, Veterans Affairs Learning University. Effective February 18, 2004

Section 213.3330 Securities and Exchange Commission

SEOT60003 Confidential Assistant to a Commissioner. Effective February 05, 2004

Section 213.3331 Department of Energy

DEGS00394 Deputy Assistant Secretary for Energy Policy to the Assistant Secretary for Congressional and Intergovernmental Affairs. Effective February 03, 2004

DEGS00400 Policy Advisor to the Assistant Secretary for Fossil Energy. Effective February 04, 2004

DEGS00402 Advance Representative to the Director, Office of Scheduling and Advance. Effective February 05, 2004

DEGS00401 Special Assistant to the Director, Office of Scheduling and Advance. Effective February 11, 2004

DEGS00403 Special Assistant to the Chief of Staff. Effective February 18, 2004

Section 213.3332 Small Business Administration

SBGS60190 Deputy Chief of Staff to the Chief of Staff. Effective February 05, 2004

SBGS60019 Special Assistant to the Deputy Administrator. Effective February 11, 2004

SBGS60545 Assistant Administrator to the Associate Administrator for Field Operations. Effective February 11, 2004

SBGS60546 Senior Advisor to the Ombudsman to the National Ombudsman. Effective February 12, 2004

SBGS60004 Senior Advisor for Women's Issues to the Deputy Administrator. Effective February 20, 2004

Section 213.3337 General Services Administration

GSGS60094 Congressional Relations Officer to the Associate Administrator for Congressional and Intergovernmental Affairs. Effective February 19, 2004

Section 213.3339 United States International Trade Commission

TCGS00033 Staff Assistant to a Commissioner. Effective February 04, 2004

TCGS00031 Executive Assistant to a Commissioner. Effective February 06, 2004

TCGS00013 Staff Assistant (Economics) to the Chairman. Effective February 18, 2004

Section 213.3344 Occupational Safety and Health Review Commission

SHGS00002 Confidential Assistant to the Commission Member (Chairman). Effective February 11, 2004

Section 213.3384 Department of Housing and Urban Development

DUGS60494 Special Assistant to the Deputy Assistant Secretary. Effective February 09, 2004

Section 213.3394 Department of Transportation

DTGS60460 Director of Public Affairs to the Administrator. Effective February 04, 2004

Authority: 5 U.S.C. 3301 and 3302; E.O. 10577, 3 CFR 1954—1958 Comp., P.218.

Office of Personnel Management.
Kay Coles James,
Director.

[FR Doc. 04-6923 Filed 3-26-04; 8:45 am]

BILLING CODE 6325-39-P